DEPARTMENT OF ENERGY

Federal Energy Regulatory Commission

[Docket No. AD04-5-000]

Northeast Energy Infrastructure Conference; Notice of Technical Conference and Agenda

May 14, 2004.

As announced in the Notice of Conference issued on April 1, 2004, the Federal Energy Regulatory Commission (FERC) will hold a conference on June 3, 2004, in New York City to discuss issues regarding energy infrastructure in the northeastern States. These States include Maine, Vermont, New Hampshire, New York, Massachusetts, Connecticut, and Rhode Island. The conference will begin at 9 a.m. (please note time change) and conclude at approximately 5 p.m. (e.s.t.), and will be held at the Hilton New York, 1335 Avenue of the Americas, New York, NY (1-212-586-7000). All interested persons are invited to attend. There is no registration fee.

The conference will focus on the adequacy and development of the electric, natural gas and other energy infrastructure in the Northeast. The FERC Commissioners will attend, and Governors, state utility commissioners, and other government officials have been invited to participate. The purpose of this conference is two-fold: To identify the challenges that face the Northeast in ensuring adequate energy supplies to high-growth areas and to coordinate our efforts in seeking solutions. By engaging experts and policymakers in a comprehensive, collaborative approach, we will pool our efforts into achieving a well-functioning infrastructure necessary to meet the Northeast's energy demands.

The conference agenda is appended to this notice. The conference is not intended to deal with issues pending in individually docketed cases before the Commission, such as applications involving hydropower, natural gas certificates, or the formation of Regional Transmission Organizations. Therefore, all participants are requested to address the agenda topics and avoid discussing the merits of individual proceedings.

Opportunities for Listening to and Obtaining Transcripts of the Conference

Transcripts of the conference will be immediately available from Ace Reporting Company (202-347-3700 or 1-800-336-6646) for a fee. They will be available for the public on the Commission's eLibrary system seven calendar days after FERC receives the transcript. Additionally, Capitol Connection offers the opportunity for remote listening of the conference via Real Audio or a Phone Bridge Connection for a fee. Persons interested in making arrangements should contact David Reininger or Julia Morelli at the Capitol Connection (703-993-3100) as soon as possible or visit the Capitol Connection Web site at http://www.capitolconnection.org and click on “FERC.”

Audio tapes of the meeting will be available from VISCOM (703-715-7999).

Although there is no registration fee, this is a reminder to please register for the conference online on the Commission Web site at http://www.ferc.gov/EventCalendar/ EventDetails.aspx?ID=896& Date=6%2f3% 2f2004&CalendarID=0.

Questions about the conference program should be directed to: Carol Connors, Office of External Affairs, Federal Energy Regulatory Commission, 888 First Street, NE., Washington, DC 20426, carol.connors@ferc.gov, 202-502-8870.

Magalie R. Salas,
Secretary.

Conference Agenda

Hilton New York, 1335 Avenue of the Americas, New York, NY, June 3, 2004.

I. Opening Remarks and Introductions

9 a.m. to 9:10 a.m.

Chairman Pat Wood III, Commissioner Nora Brownell, Commissioner Joseph Kelliher, Commissioner Suedeen Kelly.

II. Broad Overview of Current Energy Infrastructure in the Northeast

9:10 a.m. to 9:20 a.m.

• Jeff Wright, Office of Energy Projects, FERC.

III. Forecasting Future Energy Infrastructure Needs in the Northeast

9:20 a.m. to 9:40 a.m.

• Edward Krapels, Ph.D., Director, Energy Development Services, Energy Security Analysis, Inc.

IV. New York City

9:45 a.m. to 11:45 a.m.

—FERC Staff Introduction and Overview of the Panel Issues.

As demand grows, there will be a need for new capacity—gas and electric—later in this decade. This panel would suggest solutions that allow infrastructure projects to be approved and constructed in a timely fashion before capacity constraints cause loss of service in this high-growth area.

• Gil Quiniones, Chairman, New York City Energy Policy Task Force.

• William Flynn, Chairman, New York Public Service Commission.

• Eugene McGrath, Chief Executive Officer, Consolidated Edison Energy.

• Glenn Kettering, President, NiSource Pipeline Company.

• William Museler, President and Chief Executive Officer, NewYork ISO.

• Steve Zelkowitz, President, Energy Assets and Supplies, KeySpan.

• Charlie Fox, Deputy Chief of Staff, New York Governor George Pataki.

• Steven Greenwald, Managing Director, Global Project Finance, Credit Suisse First Boston.

• Frank Cassidy, President and Chief Executive Officer, PSEG Power LLC.

V. Lunch

11:45 a.m. to 1:15 p.m.

VI. New England

1:15 p.m. to 2:45 p.m.

—FERC Staff Introduction and Overview of the Panel Issues.

There are gas transmission constraints in New England from all geographic directions, effectively isolating the region and calling for more pipeline capacity or reliance on Liquified Natural Gas (LNG) import terminals, which often face local opposition. Further, New England has seen considerable construction of gas-fired electric generation without a corresponding addition of electric transmission capacity to get this energy to markets. This panel would address these mounting infrastructure problems and seek to identify what can be done to coordinate efforts for expeditious consideration and construction of much needed projects.

• Robert Keating, Commissioner, Massachusetts Department of Telecommunications and Energy.

• Beth Nagusky, Director of Energy Independence and Security, Maine Governor's Task Force on LNG.

• Paul Vaitkus, Vice President, NSTAR.

• Gordon van Welie, President and Chief Executive Officer, ISO New England.

• Dennis Welch, Chairman, Northeast Gas Association.

• Richard Grant, President and Chief Executive Officer, Tractebel.

• Linda Kelly, Commissioner, Connecticut Department of Public Utility Control.

• Financial Analyst (invited).

• Steven Corneli, Director of Regulatory Affairs, NRG Energy, Inc.

VII. Regional Supply and Transport Availability

2:50 p.m. to 4:20 p.m.

—FERC Staff Introduction and Overview of the Panel Issues.

Availability of sufficient natural gas supplies to the Northeast appears to be in decline. At the same time, gas transmission capacity from outside the region is also at a premium, especially when considering the amount of gas-fired electric generation. In addition, there are capacity constraints at many points in the region's electric transmission grid (e.g., SW. Connecticut). Attempts to provide supply solutions have often been thwarted. This all translates into a supply crunch. Efforts must be made to get new supplies of energy not only into the region, but between subregions.

• Steve Whitley, Senior Vice President, ISO New England.

• John McCarthy, Business Leader of Commodities, National Energy Board (NEB), Canada.

• Jeff Scott, Chief Operating Officer, NE Transmission, National Grid.

• Rich Bolbrock, Vice President of Power Markets, Long Island Power Authority (LIPA).

• Natural Gas Supply Association (NGSA) Representative (invited).

• Yves Filion, President, Hydro-Québec TransÉnergie.

• Gregory Rizzo, Group Vice President, Duke Energy Gas Transmission.

• Hal Kvisle, President and Chief Executive Officer, TransCanada.

• Dave Boguslawski, Vice President of Transmission, Northeast Utilities.

VIII. Discussion by Conference Registrants

4:25 p.m. to 5 p.m.

Closing Remarks.

[FR Doc. E4-1207 Filed 5-21-04; 8:45 am]

BILLING CODE 6717-01-P